DEPARTMENT OF TRANSPORTATION

Research and Special Programs Administration (RSPA)

[Docket No. RSPA-02-14079; Notice 1]

Pipeline Safety: Pipeline Communications (Natural Gas and Hazardous Liquid Pipelines)

AGENCY: Office of Pipeline Safety, Research and Special Programs Administration (RSPA), DOT.

ACTION: Notice of public meeting.

SUMMARY: RSPA/OPS invites the public to a meeting on pipeline communications, including current RSPA initiatives, the development of American Petroleum Institute Recommended Practice 1162, integrity management communications, and pipeline performance metrics. This meeting is a continuation of a meeting held on February 12-14, 2001, to discuss pipeline integrity management and integrity management communications.

DATES: The public meeting will be on January 29, 2003, from 9 a.m. to 7 p.m.

ADDRESSES: Bellevue Community College, Carlson Theater, 3000 Landerholm Circle SE, Bellevue WA 98007-6484, (425) 564-2376. Driving directions and a map of the college can be found on Bellevue Community College's Web site: http://www.bcc.ctc.edu. To ensure sufficient seating, persons wishing to attend are encouraged to register for the meeting through the following Internet Web site: http://primis.rspa.dot.gov/meetings. The public will have an opportunity to make short statements on the topics under discussion. Members of the public who are unable to attend in person can view the meeting over the Internet and submit questions through the RSPA/OPS Web site: http://ops.dot.gov. In addition, a transcript will be available approximately 30 days after the meeting.

Persons wishing to submit comments relating to the public meeting may do so by mail or delivery to the Dockets Facility, U.S. Department of Transportation, Room PL-401, 400 Seventh Street, SW., Washington, DC 20590-0001. The Dockets facility is open from 10 a.m. to 5 p.m., Monday through Friday, except on Federal holidays. You should submit the original and one copy. Anyone who wants confirmation of receipt of their comments must include a stamped, self-addressed postcard. You may also submit comments to the docket electronically. To do so, log on to the Internet Web address http://dms.dot.gov and click on “Help” for instructions on electronic filing of comments. All written comments should identify the docket number RSPA-02-14079; Notice 1.

Information on Services for Individuals With Disabilities: For information on facilities or services for individuals with disabilities or to request special assistance during the telephone conference calls, contact Christina Sames (tel: 202-366-4561; E-mail: christina.sames@rspa.dot.gov).

FOR FURTHER INFORMATION CONTACT: Christina Sames (tel: 202-366-4561; E-mail: christina.sames@rspa.dot.gov). You can read comments and other material in the docket on the Internet at: http://dms.dot.gov.

SUPPLEMENTARY INFORMATION:

Background

RSPA/OPS's communication initiatives are intended to improve safety and environmental protection and to provide better assurance to the public about the safety of pipelines.

On February 14, 2001, RSPA/OPS held a public meeting to discuss pipeline integrity management and integrity management communications. Meeting attendees provided input on how State and local officials and the public could use and benefit from risk assessment information, how the consequences of potential pipeline failures should be characterized, how risk control actions should be described, and what operational information would be meaningful.

Additional information on that workshop can be found in the Dockets Facility at the Internet Web Site listed above and under Docket RSPA-00-7408.

Since the February 2001 meeting, RSPA/OPS has been exploring communication requirements for all pipeline operators to share information with community and State officials and the public about risks from pipelines, how pipeline risks can be managed and controlled, and how we know the pipelines are being operated safely. RSPA/OPS has also begun several initiatives to provide the public and local officials with pipeline educational material, training material for emergency officials responding to a pipeline accident, public outreach on damage prevention, and community assistance and technical service inspectors to assist communities with current and upcoming integrity management regulations.

The January 29, 2003, public meeting will be divided into three sessions. Each session will include presentations by RSPA/OPS, a panel discussion on that session's topic, and an open question and answer period. Panelists will include representatives from various communities, environmental organizations, first responders, city/county government, state government, and pipeline companies.

Session 1 will address the need for communications in regard to the integrity management programs. The panelists will provide their viewpoints on what information should be exchanged between pipeline operators and community officials and how this information should be provided. This session will include a discussion of a new RSPA/OPS program to provide community assistance and technical services to State and local officials, to assist with community damage prevention efforts, and to address questions about the safety of pipelines, research and development, and other program activities.

Session 2 will address pipeline performance metrics and will include a discussion on performance tracking and monitoring initiatives, RSPA/OPS data initiatives, and concepts in performance metrics on both a per company and industry aggregate basis. Panelists will discuss indicators that would be useful to judge the safety and reliability of a specific operator's program and the pipeline industry as a whole.

Session 3 will focus on adequacy of an initiative to develop a national consensus standard for pipeline operators to use in developing public awareness programs. This standard has been developed by the oil and gas industry and observed by OPS and NAPSR. This consensus standard, American Petroleum Institute Recommended Practice 1162 (“RP 1162”), and additional information on the project can be viewed on the following Internet Web Site: http://www.api.org/pipelinepublicawareness. RSPA/OPS is particularly interested in hearing the public's views on the completeness of RP 1162's sections on the information provided to local officials and on effectiveness measures. The session will also address additional RSPA/OPS communication initiatives, the development of RSPA/OPS online source of information about pipelines (“Pipeline 101”), the National Pipeline Mapping System, a collaborative project with the National Association of State Fire Marshals to develop a first responder training program, and a project with the National Academy of Science/Transportation Research Board on the study of measures to prevent encroachment on pipelines.

All presentations and a meeting transcript will be available subsequent to the meeting in the docket at http://dms.dot.gov as well as at http://primis.rspa.dot.gov.

Issued in Washington, DC, on December 27, 2002.
Stacey L. Gerard,
Associate Administrator for Pipeline Safety.

[FR Doc. 02-33109 Filed 12-31-02; 8:45 am]

BILLING CODE 4910-60-P